DEPARTMENT OF COMMERCE

National Oceanic and Atmospheric Administration

[I.D. 021902A]

North Pacific Research Board; Notice of Public Meeting

AGENCY: National Marine Fisheries Service (NMFS), National Oceanic and Atmospheric Administration (NOAA), Commerce.

ACTION: Notice of teleconference and meeting.

SUMMARY: The North Pacific Research Board (Board) was created by Congress for the purpose of carrying out marine research activities in the waters off Alaska. The Board will meet by teleconference on March 1st, 2002, from 9 to 11 a.m., Alaska time, and will hold a meeting March 21-22 in Anchorage, AK.

DATES: March 1, 2002 and March 21-22, 2002.

ADDRESSES: 441 W. 5th Avenue, Suite 500, Anchorage, AK.

Staff address: North Pacific Fishery Management Council, 605 W. 4th Ave., Suite 306, Anchorage, AK 99501-2252.

FOR FURTHER INFORMATION CONTACT: Clarence Pautzke: 907-271-2809.

SUPPLEMENTARY INFORMATION: During the teleconference scheduled for March 1, the Board will consider approving research, demonstration and education projects and procedures for 2002. The Board also will consider approving a grant request for 2002-2003 and a science planning process leading to research in 2003. The meeting is open to the public who may listen in at the conference room of the Exxon Valdez Oilspill Trustees in Suite 500 at 441 West 5th ave, Anchorage, AK.

The full Board will then meet in Anchorage beginning at 8 a.m. on Thursday, March 21, 2002, and ending at noon on Friday, March 22, 2002. The meeting will held in the EVOS conference room at the same address as the teleconference described above. The Board will approve interim budgets and financial and administrative procedures, and a science planning processes leading to research in 2003 and 2004. The Board will also consider giving final approval to several projects using Environmental Improvement and Restoration Funds.

Special Accommodations

These meetings are physically accessible to people with disabilities. Requests for sign language interpretation or other auxiliary aids should be directed to Clarence Pautzke at 907-271-2809 at least 7 working days prior to the meeting date.

Dated: February 19, 2002.
Richard W. Surdi,
Acting Director, Office of Sustainable Fisheries, National Marine Fisheries Service.

[FR Doc. 02-4277 Filed 2-21-02; 8:45 am]

BILLING CODE 3510-22-S